DEPARTMENT OF THE INTERIOR

National Park Service

[NPS-WASO-D-COS-POL-24137; PPWODIREP0] [PPMPSPD1Y.YM0000]

National Park System Advisory Board; Request for Nominations

AGENCY: National Park Service, Interior.

ACTION: Notice.

SUMMARY: The National Park Service (NPS), U.S. Department of the Interior (Department), is seeking nominations for individuals to be considered for appointment to the National Park System Advisory Board (Board). The Board advises the Secretary of the Interior (Secretary) and the Director of the National Park Service (Director) on matters relating to the National Park Service (NPS), the National Park System, and programs administered by the NPS. The Board is a discretionary committee established by authority of the Secretary under 54 U.S.C. 100906 and regulated by the Federal Advisory Committee Act (FACA).

DATES: Nominations must be postmarked by December 18, 2017.

ADDRESSES: Nominations should be sent to Shirley Sears, Office of Policy, National Park Service, 1849 C Street NW., Mail Stop 2659, Washington, DC 20240.

FOR FURTHER INFORMATION CONTACT: Shirley Sears, Office of Policy, National Park Service, 1849 C Street NW., Mail Stop 2659, Washington, DC 20240; by telephone at 202-354-3955; or by email shirley_sears@nps.gov.

SUPPLEMENTARY INFORMATION: The purpose of the Board is to provide advice to the Secretary and the Director on matters relating to the NPS, the National Park System, and programs administered by the NPS, including programs administered pursuant to 54 U.S.C. 320101; designation of National Historic Landmarks and National Natural Landmarks; and the national historic significance of proposed National Historic Trails pursuant to the National Trails System Act (16 U.S.C. 1244(b)(3)). The Board may also advise on matters submitted by the Director. The Board is comprised of no more than 12 members who are citizens of the United States and have a demonstrated commitment to the mission of the NPS. Members are selected to represent various geographic regions, including each of the administrative regions of the NPS. At least 6 members must have outstanding expertise in one or more of the following fields: History, archeology, anthropology, historical or landscape architecture, biology, ecology, marine sciences, or social science. At least 4 members must have outstanding expertise in the management of national or state parks or protected areas, or natural or cultural resources management. The remaining members must have outstanding expertise in another professional or scientific discipline important to the mission of the NPS, such as financial management, recreation use management, land use planning, or business management. At least one of the members must be a locally elected official from an area adjacent to a park. Members are appointed by the Secretary for terms not to exceed 4 years. The Director designates one member to be Chair. All members serve at the discretion of the Secretary.

We currently are seeking to appoint 3 members to the Board and are requesting nominations in the fields of anthropology, archaeology, historical architecture, landscape architecture, biology, ecology, geology, history, and social science; and for a locally elected official adjacent to a park.

Nominations should be typed, and must include a resume providing an adequate description of the nominee's qualifications, including information that would enable the Department to make an informed decision regarding meeting the membership requirements of the Board and permit the Department to contact a potential member.

Members of the Board serve as special Government employees (SGEs), and are required to have ethics training annually and to file a Confidential Financial Disclosure Report. Members serve without compensation. However, while away from their homes or regular places of business in the performance of services for the Board as approved by the Designated Federal Officer, members are allowed travel expenses, including per diem in lieu of subsistence, in the same manner as persons employed intermittently in Government service are allowed such expenses under 5 U.S.C. 5703.

Individuals who are federally registered lobbyists are ineligible to serve on all FACA and non-FACA boards, committees, or councils in an individual capacity. The term “individual capacity” refers to individuals who are appointed to exercise their own individual best judgment on behalf of the Government, such as when they are designated SGEs, rather than being appointed to represent a particular interest.

Public availability of comments. Before including your address, phone number, email address, or other personal identifying information in your nomination/comment, you should be aware that your entire nomination/comment—including your personal identifying information—may be made publicly available at any time. While you can ask us in your nomination/comment to withhold your personal identifying information from public review, we cannot guarantee that we will be able to do so.

Authority: 54 U.S.C. 100906; 5 U.S.C. Appendix 2.

Alma Ripps,
Chief, Office of Policy.

[FR Doc. 2017-24827 Filed 11-15-17; 8:45 am]

BILLING CODE 4312-52-P